DEPARTMENT OF THE INTERIOR

National Park Service

[NPS-WASO-NRNHL-DTS#-29141; PPWOCRADI0, PCU00RP14.R50000]

National Register of Historic Places; Notification of Pending Nominations and Related Actions

AGENCY: National Park Service, Interior.

ACTION: Notice.

SUMMARY: The National Park Service is soliciting comments on the significance of properties nominated before October 12, 2019, for listing or related actions in the National Register of Historic Places.

DATES: Comments should be submitted by November 18, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before October 12, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

ALABAMA

Escambia County

Atmore Commercial Historic District, Carney, Main, Trammell, Roberts, Presley, E. Church & Ridgeley Sts., Pensacola, Nashville & Louisville Aves., Atmore, SG100004641

Jefferson County

Palmerdale Homesteads Historic District, Parts of Miles Springs, N & S Valley, Brookwood, Southfield N & S, Midwood, Marsh Mountain & W Hill Rds., Helms Cir. & AL 75, Pinson, SG100004642

CONNECTICUT

Fairfield County

Greenwich Point Historic District, Tod's Driftway at Shore Rd., Greenwich, SG100004671

IDAHO

Ada County

Phillips, Dr. John and Elaine, House, 3233 Edson St., Boise, SG100004672

Forty-Four and Sixty-Six Service Station, 3130 (3128) W State St., Boise, SG100004673

Kootenai County

Pen d'Oreille City, Address Restricted, Athol, SG100004674

Valley County

Johnson Flying Service Hangar, 103 S 3rd St., McCall, SG100004675

MICHIGAN

Oakland County

Northland Gardens, Westland Ave., Westhampton Rd., Rutland Dr., and Westover Rd. between Southfield Rd., & the John C. Lodge Freeway, Southfield, SG100004660

Plumbrooke Estates, Plumbrooke Dr., Southfield, SG100004661

MINNESOTA

Ramsey County

Norwegian Evangelical Lutheran Church, 105 University Ave., St. Paul, SG100004655

Ford Motor Company Building, 117 University Ave., St. Paul, SG100004656

Degree of Honor Protective Association Building, 325 Cedar St., St. Paul, SG100004657

NEW JERSEY

Bergen County

Zabriskie, John A.L., House, 460 W Saddle River Rd., Village of Ridgewood, SG100004648

NEW YORK

Albany County

Washington Avenue Corridor Historic District, Generally Central, Washington & Western Aves., Albany, SG100004669

Columbia County

Ancramdale Historic District, NY 82, Cty. Rd. 3 & 8, Maple Ln., Ancramdale, SG100004668

PENNSYLVANIA

Allegheny County

Highland Park, Roughly bounded by Butler St., Washington Blvd., Stanton Ave., Farmhouse Dr., Bunker Hill St. & Heth's Run, Pittsburgh, SG100004665

Lackawanna County

Stoehr and Fister Building, 200 Adams Ave., Scranton, SG100004662

Luzerne County

Wilkes-Barre Silk Company Mill, 92 S Empire St., Wilkes-Barre, SG100004666

Montgomery County

Humane Fire Engine Company No. 1, 301 Walnut St., Royersford, SG100004663

VIRGINIA

Albemarle County

Periwinkle Cottage, (The Work of Marshall Swain Wells Architect), 2245 Blue Ridge Ln., Charlottesville, MP100004659

Fredericksburg Independent City

Sligo, 1100 Dixon St., Fredricksburg, SG100004658

Hanover County

Ellington, (Civil War in Virginia MPS), 17335 Washington Hwy., Doswell, MP100004650

Pittsylvania County

Hargrave Military Academy, 200 Military Dr., Chatham, SG100004652

Pulaski County

St. Albans Hospital, 6248 University Park Dr., Radford, SG100004653

Richmond Independent City

Holly Springs Apartments, (Federal Housing Administration-Insured Garden Apartments in Richmond, Virginia MPS), 801 Holly Springs Ave., Richmond, MP100004649

WASHINGTON

Island County

Deception Pass State Park-North Beach Picnic Area Historic District, (Historic Park Landscapes in National and State Parks MPS), 41020 WA 20, Oak Harbor, MP100004645

Deception Pass State Park-Cranberry Lake Caretaker's Area Historic District, (Historic Park Landscapes in National and State Parks MPS), 41020 WA 20, Oak Harbor, MP100004647

King County

Frink Park, Roughly bounded by 31st Ave. S, Lake Washington Blvd. & 34th Ave., S King St. & S Main St., Seattle, SG100004646

WISCONSIN

Forest County

Connor Lumber and Land Company Store, 4894 Mill St., Laona, SG100004667

Additional documentation has been received for the following resource(s):

MICHIGAN

Wayne County

Fort Wayne, 6325 W Jefferson Ave., Detroit, AD71000425

MINNESOTA

Wabasha County

Wabasha Commercial Historic District, Roughly along Main St. between Bridge and Bailey Aves., Wabasha, AD82003063

NEW YORK

Albany County

Slinger-Sprong House, 698 Kenwood Ave., Slingerlands, AD11001087

PENNSYLVANIA

Bedford County

Cuppett's Covered Bridge, (Bedford County Covered Bridges TR), 1 mi. N of New Paris, Napier Township, New Paris vicinity, AD80003423

VIRGINIA

Goochland County

Tuckahoe, SE of Manakin near jct. of Rtes. 650 and 647, Manakin vicinity, AD68000049

Hopewell Independent City

City Point Historic District, Off VA 10/156, Hopewell, AD79000248

Nominations submitted by Federal Preservation Officers:

The State Historic Preservation Officer reviewed the following nominations and responded to the Federal Preservation Officer within 45 days of receipt of the nominations and supports listing the properties in the National Register of Historic Places.

MISSOURI

Oregon County

Dennig Cabins Historic District, 3/10 mi. W of OR 19 & 3/10 mi. NE of Greer Spring, Alton, SG100004677

Authority: Section 60.13 of 36 CFR part 60

Dated: October 15, 2019.
Julie H. Ernstein,
Supervisory Archeologist, National Register of Historic Places/National Historic Landmarks Program.

[FR Doc. 2019-23855 Filed 10-31-19; 8:45 am]

BILLING CODE 4312-52-P